DEPARTMENT OF ENERGY

Key Challenges in Reconstituting Uranium Mining and Conversion Capabilities in the United States

AGENCY: Office of Nuclear Energy, Department of Energy.

ACTION: Extension of comment period.

SUMMARY: On February 24, 2020, the U.S. Department of Energy (DOE) published a Request for Information (RFI) seeking comment on key challenges in reconstituting uranium mining and conversion capabilities in the United States. The RFI established a March 16, 2020 deadline for the submission of written comments. DOE is extending the comment period to March 30, 2020.

DATES: The comment period for the RFI published on February 24, 2020 (85 FR 10424) is extended. DOE will accept comments, data, and information responding to this RFI submitted on or before March 30, 2020.

ADDRESSES: Interested persons may submit comments by any of the following methods.

1. Email: RFI-Uranium@hq.doe.gov. Submit electronic comments in Microsoft Word or PDF and avoid the use of special characters or any form of encryption. Please include “Response to RFI” in the subject line.

2. Postal Mail: Response to Mining and Conversion RFI, c/o Ms. Cheryl Moss Herman, U.S. Department of Energy, Office of Nuclear Energy, Mailstop NE-42, 19901 Germantown Rd., Germantown, MD 20874-1290.

3. Hand Delivery/Courier: Ms. Cheryl Moss Herman, U.S. Department of Energy, Office of Nuclear Energy, Mailstop NE-42, B-409, 19901 Germantown Rd., Germantown, MD 20874-1290. Phone: (301) 903-1788.

4. Online: Responses will be accepted online at https://www.regulations.gov.

Instructions: All submissions received must include the agency name for this request for information. No facsimiles (faxes) will be accepted.

FOR FURTHER INFORMATION CONTACT: Requests for further information should be sent to rfi-uranium@hq.doe.gov or Ms. Cheryl Moss Herman, U.S. Department of Energy, Office of Nuclear Energy, Mailstop NE-42, B-409, 19901 Germantown Rd., Germantown, MD 20874-1290. Phone: (301) 903-1788. Please include “Question on the RFI” in the subject line.

SUPPLEMENTARY INFORMATION: On February 24, 2020, the U.S. Department of Energy (DOE) published a request for information (RFI) in the Federal Register (85 FR 10424). DOE issued this RFI to invite public input on key challenges in reconstituting uranium mining and conversion capabilities in the United States. This invitation is in recognition of the importance of nuclear fuel supply chain capabilities in the United States. The Joint Explanatory Statement of the Energy and Water Development Committees on H.R. 1865, the Fiscal Year 2020 Energy and Water Appropriations Act, requests the Department to contract not later than 60 days after enactment of the Act with a Federally-Funded Research and Development Center (FFRDC) or other independent organization to work with industry to identify key challenges in reconstituting mining and conversion capabilities in the United States. The responses received from this RFI will be provided to the FFRDC or the independent organization. The RFI established a March 16, 2020, deadline for the submission of written comments. DOE has received requests from the public for extension of the public comment period. In response to those requests, DOE is extending the comment period to March 30, 2020 to provide the public additional time for comment.

Signed in Washington, DC, on March 5, 2020.
Andrew Griffith,
Deputy Assistant Secretary for Nuclear Fuel Cycle and Supply Chain, Office of Nuclear Energy, Department of Energy.

[FR Doc. 2020-04964 Filed 3-10-20; 8:45 am]

BILLING CODE 6450-01-P